DEPARTMENT OF ENERGY

Federal Energy Regulatory Commission

[Docket No. AD08-3-000]

Conference on Alaska Natural Gas Transportation Project; Notice of Technical Conference and Request for a Statement of Interest Regarding an Alaska Natural Gas Transportation Project

January 4, 2008.

On January 29, 2008, the staff of the Federal Energy Regulatory Commission (FERC or Commission) will hold a technical conference to discuss its third-party contracting requirements and expectations with respect to preparing an environmental impact statement (EIS) on an Alaska natural gas transportation project. The staff invites those contracting companies with the relevant expertise and an interest in providing third-party contractor services to assist the FERC environmental staff with the review of the application(s) and the design and preparation of an EIS staff will prepare for the anticipated project.

The technical conference will be held at the Commission's Headquarters, 888 First St., NE., Washington, DC 20426 in room 3M-2A from 10 a.m. until 12 p.m. EST. All interested parties may attend. The conference will not be transcribed, and telephone participation will not be available.

Commission conferences are accessible under section 508 of the Rehabilitation Act of 1973. For accessibility accommodations please send an e-mail to accessibility@ferc.gov or call toll free 1-866-208-3372 (voice) or 202-208-8659 (TTY), or send a FAX to 202-208-2106 with the required accommodations.

If a project moves forward and starts the Pre-Filing Process to seek authorization under the Natural Gas Act, the FERC will be the lead agency for complying with the National Environmental Policy Act of 1969 (NEPA) and for preparing an EIS that consolidates the environmental review of all federal agencies with regulatory and other responsibilities relevant to such a project. In particular, the staff is interested in information and ideas regarding how a consultant would assist it with:

• Planning and supporting the public participation process;

• coordinating the information flow between the lead and cooperating agencies;

• identifying and analyzing the environmental issues associated with a large diameter trans-Alaskan pipeline project; and

• preparing an EIS that is in full compliance with NEPA.

In addition to the technical conference, the staff is seeking Statements of Interest from qualified companies. Respondents to this Request for Statement of Interest (RSI) should also submit a Capability Statement (CS) of no more than 25 pages that describes the organization's ability to perform the effort outlined above. The CS should summarize the company's experience in projects of similar scope and complexity, prior NEPA experience, and familiarity with the FERC (especially third-party contract experience). The CS should also detail the company's relevant expertise in such fields as arctic pipeline construction and restoration, pipeline engineering, geotechnical and seismic design, subsistence, and Native Alaskan consultation. The CS may be appended with the qualifications of the key personnel on the project team. In addition to the CS, respondents must include a completed Organizational Conflict of Interest Statement (see attachment).

Responses to the RSI must be submitted as detailed below:

• Send two copies to: Michael J. Boyle, Branch Chief, Office of Energy Projects, Federal Energy Regulatory Commission, 888 First Street, NE., Room 62-47, Washington, DC 20426;

• reference “Alaska Natural Gas Transportation Project RSI” on both copies; and

• mail the response so that it will be received in Washington, DC, on or before January 25, 2008.

Be advised that all information submitted should be marked as “Proprietary Information—Do Not Release” in bold letters on the top of every page in order to protect the submittal from public disclosure. Companies responding to the RSI may also be interviewed individually at the Commission's offices in Washington, DC. If such interviews are scheduled, attendance would be at the interested parties' own expense.

For additional information concerning the technical conference or the RSI, please contact Laurence Sauter at 202-502-8205 or Rich McGuire at 202-502-6177.

Kimberly D. Bose,
Secretary.

[FR Doc. E8-404 Filed 1-11-08; 8:45 am]

BILLING CODE 6717-01-P